DEPARTMENT OF THE INTERIOR

National Park Service

[NPS-WASO-NAGPRA-NPS0036222; PPWOCRADN0-PCU00RP14.R50000]

Notice of Intent To Repatriate Cultural Items: Johnson-Humrickhouse Museum, Coshocton, OH

AGENCY: National Park Service, Interior.

ACTION: Notice.

SUMMARY: In accordance with the Native American Graves Protection and Repatriation Act (NAGPRA), the Johnson-Humrickhouse Museum intends to repatriate certain cultural items that meet the definition of sacred objects and that have a cultural affiliation with the Indian Tribes or Native Hawaiian organizations in this notice. The cultural items were removed from Coshocton County, OH.

DATES: Repatriation of the cultural items in this notice may occur on or after August 18, 2023.

ADDRESSES: Jennifer Bush, Johnson-Humrickhouse Museum, 300 N Whitewoman Street, Coshocton, OH 43812, telephone (740) 622-8710, email jennbush@jhmuseum.org.

SUPPLEMENTARY INFORMATION: This notice is published as part of the National Park Service's administrative responsibilities under NAGPRA. The determinations in this notice are the sole responsibility of the Johnson-Humrickhouse Museum. The National Park Service is not responsible for the determinations in this notice. Additional information on the determinations in this notice, including the results of consultation, can be found in the summary or related records held by the Johnson-Humrickhouse Museum.

Description

The 11 cultural items were removed from an unknown location or locations. These sacred objects were purchased and collected by Coshocton, Ohio-born brothers David and John Johnson, the Museum's founders, when they moved to Tacoma, Washington in 1894. The Johnson brothers gave their collections to the City of Coshocton as a bequest in support of a museum that would be a memorial to the Johnson and Humrickhouse families. In 1931, the Coshocton Public Library took ownership of the Museum and its collection. The 11 sacred objects are six catlinite pipes, two pipe stems, and three war clubs.

Cultural Affiliation

The cultural items in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Johnson-Humrickhouse Museum has determined that:

• The 11 cultural items described above are specific ceremonial objects needed by traditional Native American religious leaders for the practice of traditional Native American religions by their present-day adherents.

• There is a relationship of shared group identity that can be reasonably traced between the cultural items and the Flandreau Santee Sioux Tribe of South Dakota.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 18, 2023. If competing requests for repatriation are received, the Johnson-Humrickhouse Museum must determine the most appropriate requestor prior to repatriation. Requests for joint repatriation of the cultural items are considered a single request and not competing requests. The Johnson-Humrickhouse Museum is responsible for sending a copy of this notice to the Indian Tribe identified in this notice.

Authority: Native American Graves Protection and Repatriation Act, 25 U.S.C. 3003, and the implementing regulations, 43 CFR 10.8, 10.10, and 10.14.

Dated: July 12, 2023.
Melanie O'Brien,
Manager, National NAGPRA Program.

[FR Doc. 2023-15234 Filed 7-18-23; 8:45 am]

BILLING CODE 4312-52-P